ENVIRONMENTAL PROTECTION AGENCY

40 CFR Parts 51, 52, 72, 78, and 97

[EPA-HQ-OAR-2009-0491; FRL-9201-6]

RIN 2060-AP50

Federal Implementation Plans To Reduce Interstate Transport of Fine Particulate Matter and Ozone; Correction

AGENCY: Environmental Protection Agency (EPA).

ACTION: Proposed rule; correcting amendments.

SUMMARY: The preamble to the proposed Transport Rule contains minor, technical errors that EPA is correcting in this action. In the portion of the preamble discussing in detail the proposed trading programs, EPA states clearly that it is proposing provisions that allow units to opt into these trading programs. Moreover, the proposed rule text for the Transport Rule includes detailed opt-in provisions for each proposed trading program. However, two sentences in other portions of the Transport Rule preamble erroneously state that the proposed trading programs do not allow units to opt in. In this proposed rule, EPA is correcting these technical errors.

DATES: Effective Date: These correcting amendments are effective on September 14, 2010.

Comments: The deadline for receipt of comments on the proposed Transport Rule (including the corrections proposed by this action) continues to be October 1, 2010, the same date set forth in the proposed Transport Rule (75 FR 45210, August 2, 2010) as the deadline for receipt of comments.

Public Hearing: As explained in the proposed Transport Rule, three public hearings were scheduled to be held before the end of the comment period. The dates, times and locations were announced separately. Please refer to the notice of public hearings (75 FR 45075, August 2, 2010) on the proposed Transport Rule for additional information on the comment period and the public hearings.

ADDRESSES: The EPA has established a docket for the proposed Transport Rule, including this action, under Docket ID EPA-HQ-OAR-2009-0491. All documents in the docket are listed in the http://www.regulations.gov index. Although listed in the index, some information is not publicly available, e.g., confidential business information or other information whose disclosure is restricted by statute. Certain other material, such as copyrighted material, will be publicly available only in hard copy. Publicly available docket materials are available either electronically in http://www.regulations.gov or in hard copy at the EPA Docket Center EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742. This action and other rulemaking actions related to the proposed Transport Rule are also available at EPA's Air Transport Web site at http://www.epa.gov/airtransport.

FOR FURTHER INFORMATION CONTACT: Mr. Tim Smith, Air Quality Policy Division, Office of Air Quality Planning and Standards (C539-04), Environmental Protection Agency, Research Triangle Park, NC 27711; telephone number: (919) 541-4718; fax number: (919) 541-0824; e-mail address: smith.tim@epa.gov.

SUPPLEMENTARY INFORMATION:

The proposed Transport Rule contains minor, technical errors in two sentences in the preamble. In the portion of the preamble (i.e., section V.D.4.a (75 FR 45307-9)) that discusses in detail the proposed Transport Rule trading programs, EPA states clearly that it is proposing provisions that allow units to opt into the proposed trading programs. Moreover, the proposed rule text in the proposed Transport Rule (75 FR 45389-92, 45414-17, 45438-41, and 45462-65) includes detailed opt-in provisions for each of these trading programs. However, subsequent portions (i.e., sections V.F.3 (75 FR 45338) and V.G.1 (75 FR 45340)) of the preamble compare the proposed rule with the Clean Air Interstate Rule and the Acid Rain Program and mention in a summary way the treatment of opt-in units in the proposed rule. Two sentences in those portions of the preamble erroneously state that the proposal does not allow units to opt in.

EPA believes that the proposed Transport Rule, as written, makes it clear that the Agency is proposing to allow units to opt into the Transport Rule trading programs. Furthermore, on July 15, 2010, EPA put a statement on its Web site noting that the proposed trading programs allow for opt-in units and explaining that the two sentences on 75 FR 45338 and 45340 are in error. On August 2, 2010, the docket for the proposed Transport Rule, including a memorandum noting that this statement had been put on EPA's Web site, became publicly available.

While EPA maintains that its proposal is clear in proposing to allow opt-in units, EPA is publishing this amendment to the proposed Transport Rule to eliminate any possible claim of confusion. Specifically, EPA is amending the two erroneous sentences in the proposed Transport Rule preamble as follows. The second sentence in section V.F.3 of the preamble (75 FR 45338 (col. 1)) is amended to read: “First, the proposed Transport Rule allows units to opt into the trading programs.” The seventh sentence of section V.G.1 of the preamble (75 FR 45340 (col. 2)) is amended to read: “The Transport Rule programs as proposed have opt-in provisions, so sources, including those that have opted into the Acid Rain Program, would be able to opt into the Transport Rule programs.” These amendments are technical changes that do not alter the substance of the proposal. On the contrary, the amendments simply make two sentences in the preamble that summarily refer to the treatment of opt-in units in the proposal consistent with the portions of the preamble and rule text that contain not only a comprehensive, detailed discussion of EPA's proposed inclusion of opt-in units in the proposed Transport Rule programs, but also the proposed opt-in provisions themselves.

Statutory and Executive Order Reviews

A. Executive Order 12866: Regulatory Planning and Review

This action only corrects minor, technical errors in the proposed Transport Rule and, as discussed above, does not make any substantive change in the proposal. This action is therefore not an “economically significant regulatory action” under Executive Order 12866, Regulatory Planning and Review (58 FR 51735, October 4, 1993). Moreover, the Office of Management and Budget (OMB) previously reviewed the proposed Transport Rule under Executive Order 12866.

In addition, EPA previously prepared the Regulatory Impacts Analysis (RIA) for the proposed Transport Rule. This action correcting minor, technical errors does not affect the RIA. The RIA and the discussion of it in the proposed Transport Rule remain fully applicable to the proposed Transport Rule with the corrections proposed by this action.

B. Paperwork Reduction Act

EPA previously submitted for approval by OMB under the Paperwork Reduction Act (44 U.S.C. 3501, et seq.) the information collection requirements in the proposed Transport Rule. This action correcting minor, technical errors does not change these requirements and their estimated burden. The discussion of the requirements and their burden in the proposed Transport Rule remain fully applicable to the proposed Transport Rule with the corrections proposed by this action.

C. Regulatory Flexibility Act (RFA)

EPA previously certified that the proposed Transport Rule will not have a significant economic impact on a substantial number of small entities. This action correcting minor, technical errors does not change the economic impact. The certification and the discussion of it in the proposed Transport Rule remain fully applicable to the proposed Transport Rule with the corrections proposed by this action.

D. Unfunded Mandates Reform Act

EPA previously prepared a written statement under section 202 of the Unfunded Mandates Reform Act of 1995 (UMRA) (2 U.S.C. 1531-1538), and addressed the requirements of sections 203 through 205 of UMRA, concerning the proposed Transport Rule. This action correcting minor, technical errors does not contain a Federal mandate that may result in expenditures of $100 million or more for state, local, and tribal governments, in the aggregate, or the private sector in any one year. The written statement and the discussion of the requirements of sections 203 through 205 of UMRA in the proposed Transport Rule remain fully applicable to the proposed Transport Rule with the corrections proposed by this action.

E. Executive Order 13132: Federalism

EPA previously discussed the federalism implications of the proposed Transport Rule. This action correcting minor, technical errors does not have any federalism implications. The discussion of federalism implications and of the applicability of Executive Order 13132, Federalism (64 FR 43255, August 10, 1999) in the proposed Transport Rule remain fully applicable to the proposed Transport Rule with the corrections proposed by this action.

F. Executive Order 13175: Consultation and Coordination With Indian Tribal Governments

EPA previously discussed the tribal implications of the proposed Transport Rule. This action correcting minor, technical errors does not have any tribal implications. The discussion of tribal implications, and of the applicability of Executive Order 13175, Consultation and Coordination With Indian Tribal Governments (65 FR 67249, November 9, 2000), in the proposed Transport Rule remain fully applicable to the proposed Transport Rule with the corrections proposed by this action.

G. Executive Order 13045: Protection of Children From Environmental Health and Safety Risks

EPA previously discussed the applicability of Executive Order 13045, Protection of Children From Environmental Health and Safety Risks (62 FR 19885, April 23, 1997) to the proposed Transport Rule. This action correcting minor, technical errors does not involve decisions on environmental health and safety that may disproportionately affect children. The discussion in the proposed Transport Rule concerning Executive Order 13045 remains fully applicable to the proposed Transport Rule with the corrections proposed by this action.

H. Executive Order 13211: Actions That Significantly Affect Energy Supply, Distribution, or Use

EPA previously prepared a Statement of Energy Effects under Executive Order 13211, Actions Concerning Regulations That Significantly Affect Energy Supply, Distribution, or Use (66 FR 28355, May 22, 2001). This action correcting minor, technical errors not only is not a “significant energy action” as defined in section 4(b) of Executive Order 13211, but also does not affect the Statement of Energy Effects. The statement and the discussion of the statement in the proposed Transport Rule remain fully applicable to the proposed Transport Rule with the corrections proposed by this action.

I. National Technology Transfer Advancement Act

EPA previously discussed the consistency of the proposed Transport Rule with the requirements of section 12(b) of the National Technology Transfer and Advancement Act of 1995, (NTAA) Public Law 104-113, 12(d) (15 U.S.C. 272 note). This action correcting minor, technical errors does not involve the use of technical standards. The discussion of the application of NTAA requirements in the proposed Transport Rule remains fully applicable to the proposed Transport Rule with the corrections proposed by this action.

J. Executive Order 12898: Federal Actions To Address Environmental Justice in Minority Populations and Low-Income Populations

EPA previously discussed the application of the requirements of Executive Order 12898, Federal Actions To Address Environmental Justice in Minority Populations and Low-Income Populations (59 FR 7629, February 16, 1994) to the proposed Transport Rule. This action correcting minor, technical errors does not change the human health or environmental effects of the proposed Transport Rule on minority, low-income, and Tribal populations in the United States. The discussion applying the requirements of Executive Order 12898 in the proposed Transport Rule remains fully applicable to the proposed Transport Rule with the corrections proposed by this action.

List of Subjects

40 CFR Part 52

Administrative practice and procedure, Air pollution control, Intergovernmental relations, Nitrogen oxides, Ozone, Particulate matter, Regional haze, Reporting and recordkeeping requirements, Sulfur dioxide.

40 CFR Part 78

Acid rain, Administrative practice and procedure, Air pollution control, Electric utilities, Intergovernmental relations, Nitrogen oxides, Reporting and recordkeeping requirements, Sulfur dioxide.

40 CFR Part 97

Administrative practice and procedure, Air pollution control, Electric utilities, Nitrogen oxides, Reporting and recordkeeping requirements, Sulfur dioxide.

Dated: September 8, 2010.
Lisa Jackson,
Administrator.

[FR Doc. 2010-22851 Filed 9-13-10; 8:45 am]

BILLING CODE 6560-50-P